DEPARTMENT OF EDUCATION

Notice of Proposed Information Collection Requests

Correction

In notice document 04-8346, beginning on page 19411, in the issue of Tuesday, April 13, 2004, make the following correction:

On page 19411, in the third column, nine lines from the bottom,

“Type of Review: Reinstatement.

Title: Report of Children with Disabilities Exiting Special Education During the School Year.”

should read

“Type of Review: Extension.

Title: Personnel Employed to Provide Special Education and Related Services for Children with Disabilities.”

.

[FR Doc. C4-8346 Filed 4-20-04; 8:45 am]

BILLING CODE 1505-01-D